DEPARTMENT OF COMMERCE

National Oceanic and Atmospheric Administration

[RTID 0648-XD349]

Notice of Availability of the Record of Decision for the Final Programmatic Environmental Impact Statement for the NMFS Saltonstall-Kennedy Research and Development Program

AGENCY: National Marine Fisheries Service (NMFS), National Oceanic and Atmospheric Administration (NOAA), Department of Commerce.

ACTION: Notice of availability.

SUMMARY: NOAA announces the availability of a Record of Decision for the Final Programmatic Environmental Impact Statement (PEIS) which analyzes the potential environmental impacts of the implementation of projects that foster the promotion, marketing, research, and development of U.S. Fisheries and their associated fishing sectors, as consistent with NOAA's Saltonstall-Kennedy Research and Development Program (S-K Program).

ADDRESSES: The Record of Decision and the Final PEIS are available online on the S-K Program website at: https://www.fisheries.noaa.gov/national/funding-and-financial-services/saltonstall-kennedy-research-and-development-program. Please visit the website for further information, or contact the S-K Program Manager below.

FOR FURTHER INFORMATION CONTACT: S-K Program Manager, Jen Foss, (202) 657-3389, nmfs.sk.peis@noaa.gov.

Issued in Silver Spring, MD.

Dated: September 8, 2023.
Daniel A. Namur,
Director of the NMFS Financial Assistance Division, National Marine Fisheries Service.

[FR Doc. 2023-20129 Filed 9-15-23; 8:45 am]

BILLING CODE 3510-22-P